DEPARTMENT OF JUSTICE

Drug Enforcement Administration

21 CFR Part 1308

[Docket No. DEA-476]

Chemical Names of Previously Controlled Fentanyl-Related Substances

AGENCY: Drug Enforcement Administration, Department of Justice.

ACTION: Notification of chemical names of previously controlled substances.

SUMMARY: The Drug Enforcement Administration (DEA) is providing additional descriptive information with respect to five specific substances already covered by a temporary scheduling order that appeared in the Federal Register on February 6, 2018. That order placed fentanyl-related substances temporarily in schedule I of the Controlled Substances Act. The order further stated that if and when DEA identifies a specific new substance that falls under the definition of a fentanyl-related substance, the agency will publish in the Federal Register, and on the agency website, the chemical name of such substance. Consistent therewith, this document provides the chemical names of five substances that fall within the definition of fentanyl-related substances that were temporarily controlled under the scheduling order issued February 6, 2018.

DATES: This notification has the same effective period as the temporary scheduling order published on February 6, 2018 (83 FR 5188): February 6, 2018 through February 6, 2020.

FOR FURTHER INFORMATION CONTACT: Lynnette M. Wingert, Diversion Control Division, Drug Enforcement Administration; Mailing Address: 8701 Morrissette Drive, Springfield, Virginia 22152; Telephone: (202) 598-6812.

SUPPLEMENTARY INFORMATION: On February 6, 2018, DEA issued an order pursuant to 21 U.S.C. 811(h), which temporarily placed fentanyl-related substances in schedule I of the Controlled Substances Act (CSA). 83 FR 5188. As defined in the order, fentanyl-related substances include any substance not otherwise controlled in any schedule (i.e., not included under any other Administration Controlled Substance Code Number) that is structurally related to fentanyl by one or more of the following modifications:

1. Replacement of the phenyl portion of the phenethyl group by any monocycle, whether or not further substituted in or on the monocycle;

2. substitution in or on the phenethyl group with alkyl, alkenyl, alkoxyl, hydroxyl, halo, haloalkyl, amino or nitro groups;

3. substitution in or on the piperidine ring with alkyl, alkenyl, alkoxyl, ester, ether, hydroxyl, halo, haloalkyl, amino or nitro groups;

4. replacement of the aniline ring with any aromatic monocycle whether or not further substituted in or on the aromatic monocycle; and/or

5. replacement of the N-propionyl group by another acyl group.

The order further stated that if and when DEA identifies a specific new substance that falls under the definition of a fentanyl-related substance, the agency will publish in the Federal Register, and on the agency website, the chemical name of such substance. Consistent therewith, DEA is hereby providing the chemical names of five substances, which have been identified on the illicit market in the United States, that fall within the existing definition of a fentanyl-related substance:

N-(1-(2-fluorophenethyl)piperidin-4-yl)-N-(2-fluorophenyl)propionamide (2′-fluoro ortho-fluorofentanyl);

N-(2-methylphenyl)-N-(1-phenethylpiperidin-4-yl)acetamide (ortho-methyl acetylfentanyl);

N-(1-phenethylpiperidin-4-yl)-N,3-diphenylpropanamide (beta′-phenyl fentanyl; hydrocinnamoyl fentanyl);

N-(1-phenethylpiperidin-4-yl)-N-phenylthiophene-2-carboxamide (thiofuranyl fentanyl); and

(E)-N-(1-phenethylpiperidin-4-yl)-N-phenylbut-2-enamide (crotonyl fentanyl).

The five foregoing substances fall within the definition of fentanyl-related substances as they are not otherwise listed under another Administration Controlled Substance Code Number and are structurally related to fentanyl by the following modifications:

2′-fluoro ortho-fluorofentanyl: Substitution on the phenethyl group with a halo group and substitution on the aniline ring (meets definition for modifications 2 and 4);

ortho-methyl acetylfentanyl: Substitution on the aniline ring and replacement of the N-propionyl group with another acyl group (meets definition for modifications 4 and 5);

beta′-phenyl fentanyl: Replacement of the N-propionyl group by another acyl group (meets definition for modification 5);

thiofuranyl fentanyl: Replacement of the N-propionyl group by another acyl group (meets definition for modification 5);

crotonyl fentanyl: Replacement of the N-propionyl group by another acyl group (meets definition for modification 5).

It bears emphasis that, as DEA stated in the temporary scheduling order for fentanyl-related substances, even in the absence of this publication providing the chemical names of the foregoing five substances that fall within the definition of a fentanyl-related substance, these five substances (along with any others that might be identified in the future) were controlled as of February 6, 2018 by virtue of the temporary scheduling order that DEA issued on that date. 83 FR 5188.

Dated: April 3, 2019.
Uttam Dhillon,
Acting Administrator.

[FR Doc. 2019-07457 Filed 4-18-19; 8:45 am]

BILLING CODE 4410-09-P